DEPARTMENT OF DEFENSE

GENERAL SERVICES ADMINISTRATION

NATIONAL AERONAUTICS AND SPACE ADMINISTRATION

48 CFR Chapter 1

[Docket No. FAR-2022-0051, Sequence No. 3]

Federal Acquisition Regulation; Federal Acquisition Circular 2022-06; Small Entity Compliance Guide

AGENCY: Department of Defense (DoD), General Services Administration (GSA), and National Aeronautics and Space Administration (NASA).

ACTION: Small Entity Compliance Guide (SECG).

SUMMARY: This document is issued under the joint authority of DoD, GSA, and NASA. This Small Entity Compliance Guide has been prepared in accordance with section 212 of the Small Business Regulatory Enforcement Fairness Act of 1996. It consists of a summary of the rules appearing in Federal Acquisition Circular (FAC) 2022-06, which amends the Federal Acquisition Regulation (FAR). Interested parties may obtain further information regarding these rules by referring to FAC 2022-06, which precedes this document.

DATES: April 26, 2022.

ADDRESSES: The FAC, including the SECG, is available at https://www.regulations.gov.

FOR FURTHER INFORMATION CONTACT: For clarification of content, contact the analyst whose name appears in the table below. Please cite FAC 2022-06 and the FAR Case number. For information pertaining to status or publication schedules, contact the Regulatory Secretariat Division at 202-501-4755 or GSARegSec@gsa.gov. An asterisk (*) next to a rule indicates that a regulatory flexibility analysis has been prepared.

Rules Listed in FAC 2022-06
Item | Subject | FAR case | Analyst
* I | Applicability of Small Business Regulations Outside the United States | 2016-002 | Uddowla.
II | Technical Amendments |  |

SUPPLEMENTARY INFORMATION: Summaries for each FAR rule follow. For the actual revisions and/or amendments made by these FAR rules, refer to the specific item numbers and subjects set forth in the documents following these item summaries. FAC 2022-06 amends the FAR as follows:

Item I—Applicability of Small Business Regulations Outside the United States (FAR Case 2016-002)

This final rule amends the Federal Acquisition Regulation (FAR) to give agencies the tools they need, especially the ability to use set-asides, to maximize opportunities for small businesses outside the United States or its outlying areas, as defined in FAR part 2. Prior to this rule, the FAR stated that the small business programs do not apply outside of the United States (FAR 19.000(b)). This rule supports the Small Business Administration (SBA) policy of including overseas contracts in agency small business contracting goals.

Item II—Technical Amendments

Editorial changes are made at FAR 4.402, 4.1103, 12.302, 12.402, 15.601, 18.205, 46.102, 52.212-5, and 52.222-54.

William F. Clark,
Director, Office of Government-wide Acquisition Policy, Office of Acquisition Policy, Office of Government-wide Policy.

[FR Doc. 2022-08579 Filed 4-25-22; 8:45 am]

BILLING CODE 6820-EP-P